DEPARTMENT OF THE INTERIOR

National Park Service

[NPS-WASO-NRNHL-0312-9725; 2200-3200-665]

National Register of Historic Places; Notification of Pending Nominations and Related Actions

Nominations for the following properties being considered for listing or related actions in the National Register were received by the National Park Service before February 25, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th Floor, Washington DC 20005; or by fax, 202-371-6447. Written or faxed comments should be submitted by April 3, 2012. Before including your address, phone number, email address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

INDIANA

Clark County

Smith—Sutton Site, Address Restricted, Jeffersonville, 12000183

Delaware County

Minnetrista Boulevard Historic District, 400-650 Minnetrista Blvd., Muncie, 12000184

Jasper County

Rensselear Courthouse Square Historic District, Roughly between Cullen & Front Sts. along W. Washington St., Rensselaer, 12000185

Lake County

Pullman—Standard Historic District (Historic Residential Suburbs in the United States, 1830-1960 MPS), Roughly bounded by Columbia, Field, Porter & Willard Aves., Hammond, 12000186

Marshall County

Ramsay—Fox Round Barn and Farm (Round and Polygonal Barns of Indiana MPS) 18889 9th Rd., Plymouth, 12000187

Miami County

Jacobs, Terrell, Circus Winter Quarters, 6125 US 31 S., Peru, 12000188

Morgan County

Grassyfork Fisheries Farm No. 1, 2902 E. Morgan St., Martinsville, 12000189

Tippecanoe County

Curtis—Grace House, 2175 Tecumseh Park Ln., West Lafayette, 12000190

IOWA

Benton County

Zalesky, Frank E. and Katie (Cherveny), House, 802 9th Ave., Belle Plaine, 12000191

TEXAS

Bexar County

Presnall—Watson Homestead (Farms and Ranches of Bexar County, Texas), Address Restricted, San Antonio, 12000192

Brooks County

Brooks County Courthouse, 100 E. Miller St., Falfurrias, 12000193

Callahan County

Texas and Pacific Railway Depot, 100 Market St., Baird, 12000194

Harris County

Walker House, 3534 Miramar Dr., Shoreacres, 12000195

Matagorda County

Christ Episcopal Church, 206 Cypress St., Matagorda, 12000196

Newton County

Odom, Addie L. and A.T., Homestead, 194 Cty. Rd. 1040, Burkeville, 12000197

Travis County

Delta Kappa Gamma Society International Headquarters Building, 416 W. 12th St., Austin, 12000198

[FR Doc. 2012-6482 Filed 3-16-12; 8:45 am]

BILLING CODE 4312-51-P